OFFICE OF PERSONNEL MANAGEMENT

Agency Information Collection Request: Federal Employees Health Benefits and Postal Service Health Benefits Programs Service Use and Cost Data (3206-NEW)

AGENCY: Office of Personnel Management.

ACTION: 60-Day notice and request for comments.

SUMMARY: The Office of Personnel Management (OPM) offers the general public the opportunity to comment on an information collection request (ICR): Federal Employees Health Benefits (FEHB) and Postal Service Health Benefits (PSHB) Programs Service Use and Cost Data (3206-NEW). As required by the Paperwork Reduction Act of 1995, as amended OPM is soliciting comments for this collection.

DATES: Comments are encouraged and will be accepted until February 10, 2026. This process is conducted in accordance with 5 CFR 1320.8(d)(1).

ADDRESSES: You may submit comments, identified by docket number and title, by the following method:

• Federal Rulemaking Portal: http://www.regulations.gov. Follow the instructions for submitting comments.

All submissions received must include the agency name and title for this document. The general policy for comments and other submissions from members of the public is to make these submissions available for public viewing at http://www.regulations.gov as they are received without change, including any personal identifiers or contact information.

FOR FURTHER INFORMATION CONTACT: A copy of this ICR, with applicable supporting documentation, may be obtained by contacting the Healthcare and Insurance, Office of Personnel Management, 1900 E Street NW, Washington, DC 20415, Attention: Jodi Schaubach, via phone at 202-936-1635 or via electronic mail to PDSPRA@opm.gov.

SUPPLEMENTARY INFORMATION: As required by the Paperwork Reduction Act of 1995, 44 U.S.C. 3506(c)(2), OPM is soliciting comments for this collection. The Office of Personnel Management is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Background

OPM is collecting service use and cost data from FEHB and PSHB Carriers, including medical claims, pharmacy claims, encounter data, and provider data. This data will enable OPM to oversee health benefits programs and ensure they provide competitive, quality, and affordable plans. OPM requires Carriers to report necessary information and permit audits and examinations to manage the FEHB Program effectively. The Health Insurance Portability and Accountability Act of 1996 (HIPAA) Privacy Rule permits covered entities, including carriers, to disclose protected health information (PHI), including service use and cost data, to health oversight agencies, such as OPM, for oversight activities authorized under 45 CFR 165.512(d)(1).

Analysis

Agency: Office of Personnel Management.

Title: Service Use and Cost Data.

OMB Number: 3206-NEW.

Frequency: Ongoing monthly submissions of claims-level data and quarterly manufacturer rebate data.

Affected Public: Federal Employees and Retirees (Including Postal employees and Retirees).

Number of Respondents: 65 carriers.

Estimated Time per Respondent: First year: 225 hours/carrier; subsequent years: 12 hours/submission, monthly or quarterly depending on attributed file type.

Total Burden Hours: First year: 14,625 hours; subsequent years: 9,360 hours.

Alexys Stanley,
Federal Register Liaison.

[FR Doc. 2025-22695 Filed 12-11-25; 8:45 am]

BILLING CODE 6325-64-P